COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before February 5, 2014.

ADDRESSES: Comments may be submitted directly to the Office of Information and Regulatory Affairs (OIRA) in OMB, within 30 days of the notice's publication, by email at OIRAsubmissions@omb.eop.gov. Please identify comments by “Financial Resource Reporting Requirements for Derivatives Clearing Organizations (OMB Control No. 3038-0066).” Please provide the Commission with a copy of all submitted comments at the address listed below. Comments may also be mailed to the Office of Information and Regulatory Affairs, Office of Management and Budget, Attention: Desk Officer for the Commodity Futures Trading Commission, 725 17th Street NW., Washington, DC 20503, and Eileen Chotiner, Division of Clearing and Risk, Commodity Futures Trading Commission, Three Lafayette Centre, 1155 21st Street NW., Washington, DC 20581.

Comments may be also be submitted, regarding the burden estimated or any other aspect of the information collection, including suggestions for reducing the burden, identified by “Financial Resource Requirements for Derivatives Clearing Organizations (OMB Control No. 3038-0066),” by any of the following methods:

• Agency Web site, via its Comments Online process: http://comments.cftc.gov. Follow the instructions for submitting comments through the Web site.

• Mail: Send to Christopher Kirkpatrick, Secretary of the Commission, Commodity Futures Trading Commission, Three Lafayette Centre, 1155 21st Street NW., Washington, DC 20581.

• Hand Delivery/Courier: Same as Mail, above.

• Federal eRulemaking Portal: http://www.regulations.gov. Follow the instructions for submitting comments.

All comments must be submitted in English or, if not, accompanied by an English translation. Comments will be posted as received to http://www.cftc.gov. You should submit only information that you wish to make available publicly. If you wish the Commission to consider information that is exempt from disclosure under the Freedom of Information Act, a petition for confidential treatment of the exempt information may be submitted according to the procedures set forth in § 145.9 of the Commission's regulations.

The Commission reserves the right, but shall have no obligation, to review, pre-screen, filter, redact, refuse or remove any or all of your submission from www.cftc.gov that it may deem to be inappropriate for publication, such as obscene language. All submissions that have been redacted or removed that contain comments on the merits of this matter will be retained in the public comment file and will be considered as required under applicable laws.

FOR FURTHER INFORMATION CONTACT: Eileen Chotiner, Division of Clearing and Risk, Commodity Futures Trading Commission, Three Lafayette Centre, 1155 21st Street NW., Washington, DC 20581; (202) 418-5467; email: echotiner@cftc.gov, and refer to OMB Control number 3038-0066. This contact can also provide a copy of the ICR.

SUPPLEMENTARY INFORMATION: This is a request for extension of a currently approved information collection.

Title: “Financial Resource Reporting Requirements for Derivatives Clearing Organizations (OMB Control No. 3038-0066).”

Abstract: Part 39 of the Commission's regulations establishes financial reporting requirements for derivatives clearing organizations (DCOs), which are required to be registered with the Commission. The Commission will use the information in the reports to assess the DCOs' compliance with the financial resource requirements for DCOs prescribed in the Commodity Exchange Act and Commission regulations.

Burden Statement: The respondent burden for this collection is estimated to average 10 hours per response.

Respondents/Affected Entities: Derivatives clearing organizations.

Estimated Number of Respondents: 14.

Estimated Total Annual Burden on Respondents: 560 hours.

Frequency of Collection: Quarterly and on occasion.

Authority: 44 U.S.C. 3501 et seq.

Dated: December 31, 2014.
Christopher J. Kirkpatrick,
Secretary of the Commission.

[FR Doc. 2014-30950 Filed 1-5-15; 8:45 am]

BILLING CODE 6351-01-P